DEPARTMENT OF STATE

[Public Notice: 7330]

Industry Advisory Panel; Notice of Open Meeting

The Industry Advisory Panel of the Bureau of Overseas Buildings Operations will meet on Tuesday, April 26, 2011 from 9:30 a.m. until 3:30 p.m. Eastern Daylight Time. The meeting is open to the public and will be held in the Loy Henderson Conference Room of the U.S. Department of State, located at 2201 C Street, NW., (entrance on 23rd Street) Washington, DC. For logistical and security reasons, it is imperative that everyone enter and exit using only the 23rd Street entrance.

The majority of the meeting will be devoted to an exchange of ideas between the Department's senior management and the panel members on design, operations, and building maintenance, with a focus on the new Design Excellence initiative. There will be reasonable time provided for members of the public to provide comment.

Entry to the building is controlled; to obtain pre-clearance, a member of the public planning to attend should provide, by April 12, his or her name, professional affiliation, date of birth, citizenship, and a valid government-issued ID number (i.e., U.S. government ID, U.S. military ID, passport, or drivers license) via e-mail to: IAPR@state.gov. Requests for reasonable accommodation should be sent to the same e-mail address by April 12. Requests made after that date will be considered, but may not be able to be fulfilled.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

Please contact Christy Foushee at FousheeCT@state.gov or (703) 875-4131 with any questions.

Dated: March 28, 2011.
Adam E. Namm,
Director, Acting, U.S. Department of State, Bureau of Overseas Buildings Operations.

[FR Doc. 2011-8432 Filed 4-7-11; 8:45 am]

BILLING CODE 4710-24-P